NUCLEAR REGULATORY COMMISSION

[Docket No. 11006398; NRC-2020-0249]

U.S. Department of Energy National Nuclear Security Administration

AGENCY: Nuclear Regulatory Commission.

ACTION: Export license application; opportunity to provide comments, request a hearing, and petition for leave to intervene.

SUMMARY: The U.S. Nuclear Regulatory Commission (NRC) received an application for an export license (XSNM3819) requested by U.S Department of Energy National Nuclear Security Administration (DOE/NNSA). On September 10, 2020, DOE/NNSA filed an application with the NRC seeking approval for a license to export high enriched uranium to France.

DATES: Submit comments by March 5, 2021. A request for a hearing or a petition for leave to intervene must be filed by March 5, 2021.

ADDRESSES: You may submit comments by any of the following methods; however, the NRC encourages electronic comment submission through the Federal Rulemaking

Website

• Federal Rulemaking Website: Go to https://www.regulations.gov and search for Docket ID NRC-2020-0249. Address questions about Docket IDs in Regulations.gov to Stacy Schumann; telephone: 301-415-0624; email: Stacy.Schumann@nrc.gov. For technical questions, contact the individual listed in the FOR FURTHER INFORMATION CONTACT section of this document.

• Email comments to: hearing.docket@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Janice Owens, Office of International Programs, U.S. Nuclear Regulatory Commission, Washington, DC 20555-0001; telephone: 301-287-9096, email: Janice.Owens@nrc.gov.

SUPPLEMENTARY INFORMATION:

I. Obtaining Information and Submitting Comments

A. Obtaining Information

Please refer to NRC-2020-0249 or Docket No. 11006398 when contacting the NRC about the availability of information for this action. You may obtain publicly available information related to this action by any of the following methods:

• Federal Rulemaking Website: Go to https://www.regulations.gov and search for Docket ID NRC-2020-0249.

• NRC's Public Website: Go to https://www.nrc.gov and search for XSNM3819, Docket No. 11006398, or Docket ID NRC-2020-0249.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The export license application from DOE/NNSA is available in ADAMS under Accession No. ML20262H100.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

Please include Docket ID NRC-2020-0249 or Docket No. 11006398 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On September 18, 2020, NRC received an application from DOE/NNSA requesting a specific license (XSNM3819) to export high enriched uranium in the form of broken metals to France for ultimate use as reactor fuel (ADAMS Accession No. ML20262H100).

In accordance with paragraph 110.70(b) of title 10 of the Code of Federal Regulations (10 CFR) the NRC is providing notice of the receipt of the application submitted; providing the opportunity to submit written comments concerning the application; and providing the opportunity to request a hearing or petition for leave to intervene, for a period of 30 days after publication of this notice in the Federal Register. In accordance with 10 CFR 110.89(b), a hearing request or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520. Hearing requests and intervention petitions must include the information specified in 10 CFR 110.82(b).

A request for hearing or petition for leave to intervene shall be filed In accordance with 10 CFR 110.89(a). As provided in section 110.89(a), a request for hearing or petition for leave to intervent may be filed with the Commission by delivery or by mail to the Secretary, U.S. Nuclear Regulatory Commission, Washington, DC 20555, or by electronic means in accordance with the NRC's E-Filing rule (72 FR 49139; August 28, 2007, as amended at 77 FR 46562; August 3, 2012). Detailed guidance on making electronic submissions may be found in the Guidance for Electronic Submissions to the NRC and on the NRC website at https://www.nrc.gov/site-help/esubmittals.htm.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

The information concerning this application for an export license follows.

NRC Export License Application
Application Information
Name of Applicant | U.S Department of Energy National Nuclear Security Administration (DOE/NNSA)
Date of Application | September 10, 2020
Date Received | September 18, 2020
Application No. | XSNM3819
Docket No. | 11006398
ADAMS Accession No. | ML20262H100
Description of Material
Material Type | High enriched uranium in the form of broken metal.
Total Quantity | Up to 121.16 kilograms of uranium-235 contained in a maximum of 130.0 kilograms of uranium enriched to a maximum of 93.20 weight percent.
End Use | Reactor reload fuel.
Country of Destination | France.

Dated: January 29, 2021.
For the Nuclear Regulatory Commission.
David L. Skeen,
Deputy Director, Office of International Programs.

[FR Doc. 2021-02249 Filed 2-2-21; 8:45 am]

BILLING CODE 7590-01-P